DEPARTMENT OF COMMERCE

Submission for OMB Review; Comment Request

The Department of Commerce will submit to the Office of Management and Budget (OMB) for clearance the following proposal for collection of information under the provisions of the Paperwork Reduction Act (44 U.S.C. chapter 35).

Agency: International Trade Administration (ITA).

Title: Steel Import License.

OMB Control Number: 0625-0245.

Form Number(s): ITA-4141P.

Type of Request: Regular submission (extension of a currently approved information collection).

Burden Hours: 100,000.

Number of Respondents: 3,500.

Average Hours per Response: 10 minutes.

Needs and Uses: In order to monitor steel imports in real-time and to provide the public with real-time data, the Department of Commerce (DOC) must collect and provide timely aggregated summaries about these imports. The Steel Import License proposed by the Import Administration of the DOC is the tool used to collect the necessary information. The Census Bureau currently collects import data and disseminates aggregate information about steel imports. However, the time required to collect, process, and disseminate this information through Census can take up to 90 days after importation of the product, giving interested parties and the public far less time to respond to injurious sales.

Affected Public: Business or other for-profit organizations.

Frequency: On occasion.

Respondent's Obligation: Voluntary.

OMB Desk Officer: Wendy Liberante, (202) 395-3647.

Copies of the above information collection proposal can be obtained by calling or writing Diana Hynek, Departmental Paperwork Clearance Officer, (202) 482-0266, Department of Commerce, Room 6616, 14th and Constitution Avenue, NW., Washington, DC 20230 (or via the Internet at dHynek@doc.gov.

Written comments and recommendations for the proposed information collection should be sent within 30 days of publication of this notice to Wendy Liberante, OMB Desk Officer, Fax number (202) 395-7285 or via the Internet at Wendy_L._Liberante@omb.eop.gov.

Dated: September 22, 2011.
Gwellnar Banks,
Management Analyst, Office of the Chief Information Officer.

[FR Doc. 2011-24880 Filed 9-27-11; 8:45 am]

BILLING CODE 3510-DS-P